DEPARTMENT OF STATE

[Public Notice: 10176]

Notice of Public Meeting

The Department of State will conduct a public meeting at 10:00 a.m. on Tuesday, November 14, 2017 in Room 5L18-01 of the Douglas A. Munro Coast Guard Headquarters Building at St. Elizabeth's, 2703 Martin Luther King Jr. Ave. SE., Washington, DC 20593. The primary purpose of the meeting is to prepare for the 29th Extraordinary Council Session (CES29), the 30th Assembly (A30), and the 119th Council Session (C119) of the International Maritime Organization (IMO), to be held at the IMO Headquarters, United Kingdom, November 23-24; November 27-December 6; and December 7, respectively.

The agenda items for CES29 to be considered include:

—Adoption of the agenda

—Report of the Secretary-General on credentials

—Strategy, planning and reform

—Resource management

—Results-based budget for the 2018-2019 biennium

—Consideration of the report of the seventy-first session of the Marine Environment Protection Committee

—Consideration of the report on the 39th Consultative Meeting of Contracting Parties to the Convention on the Prevention of Marine Pollution by Dumping of Wastes and Other Matter,1972 and the 12th Meeting of Contracting Parties to the 1996 Protocol to the London Convention

—Report of the Council to the Assembly on the work of the Organization since the 29th regular session of the Assembly

—Protection of vital shipping lanes

—Periodic review of administrative requirements in mandatory IMO instruments

—External relations

—Report on the status of the Convention and membership of the Organization

—Report on the status of conventions and other multilateral instruments in respect of which the Organization performs functions

—Items for inclusion in the provisional agendas for the next two sessions of the Council

—Supplementary agenda items, if any

The agenda items for A30 to be considered include:

—Adoption of the agenda

—Election of the President and the Vice-Presidents of the Assembly

—Application of Article 61 of the IMO Convention—Report of the Council to the Assembly on any requests by Members for waiver

—Establishment of committees of the Assembly

—Consideration of the reports of the committees of the Assembly

—Report of the Council to the Assembly on the work of the Organization since the 29th regular session of the Assembly

—Strategy, planning and reform

—IMO Member State Audit Scheme

—Consideration of the reports and recommendations of the Maritime Safety Committee

—Consideration of the reports and recommendations of the Legal Committee

—Consideration of the reports and recommendations of the Marine Environment Protection Committee

—Consideration of the reports and recommendations of the Technical Cooperation Committee

—Consideration of the reports and recommendations of the Facilitation Committee

—Convention on the Prevention of Marine Pollution by Dumping of Wastes and Other Matter, 1972 and the 1996 Protocol thereto: Report on the performance of Secretariat functions and other duties

—Report to the Assembly on Periodic review of administrative requirements in mandatory IMO instruments

—Resource management

—Global maritime training institutions

—External relations

—Report on the status of the Convention and membership of the Organization

—Report on the status of conventions and other multilateral instruments in respect of which the Organization performs functions

—Election of Members of the Council, as provided for in Articles 16 and 17 of the IMO Convention

—Election of Members of the IMO Staff Pension Committee

—Date and place of the 31st session of the Assembly

—Supplementary agenda items, if any

The agenda for C119 has not yet been published, but traditionally includes:

—Election of the Chairman and Vice-Chairman

—Adoption of the agenda

—Date, place and duration of the next session of Council

—Supplementary agenda items, if any

Members of the public may attend this meeting up to the seating capacity of the room. To facilitate the building security process, and to request reasonable accommodation, those who plan to attend must contact the meeting coordinator, LCDR Staci Weist, by email at eustacia.y.weist@uscg.mil, or by phone at (202) 372-1376, not later than November 7th, seven days prior to the meeting. Requests made after November 7, 2017 might not be able to be accommodated. Please note that due to security considerations, two valid, government issued photo identifications must be presented to gain entrance to the Headquarters building. The Headquarters building is accessible by public transportation, taxi and privately owned conveyance. Additional information regarding this and other IMO SHC public meetings may be found at www.dco.uscg.mil/Our-Organization/Assistant-Commandant-for-Prevention-Policy-CG-5P/Commercial-Regulations-standards-CG-5PS/International-Maritime-Organization/.

Joel C. Coito,
Executive Secretary, Shipping Coordination Committee, Coast Guard Liaison Officer, Office of Ocean and Polar Affairs, Department of State.

[FR Doc. 2017-22856 Filed 10-20-17; 8:45 am]

BILLING CODE 4710-09-P